DEPARTMENT OF THE INTERIOR

National Park Service

Plan of Operations and Environmental Assessment for Seismic Exploration, Big Thicket National Preserve, Texas

AGENCY: National Park Service, Department of the Interior.

ACTION: Notice of availability of the plan of operations and environmental assessment for Seismic Exploration within the Big Sandy Creek, Menard Creek Corridor, and Hickory Creek Savannah Units of Big Thicket National Preserve, Polk, Hardin and Tyler Counties, Texas.

SUMMARY: The National Park Service, in accordance with subsection 9.52(b) of Title 36 of the Code of Federal Regulations, part 9, subpart B, has received from Seismic Assistants, Ltd., a Plan of Operations for seismic exploration within Big Thicket National Preserve, Texas. The Plan of Operations and accompanying Environmental Assessment are available for public review and comment.

DATES: The National Park Service will accept comments from the public on the Plan of Operations and Environmental Assessment for 30 days after publication of this notice. No public meetings are scheduled at this time.

ADDRESSES: The Plan of Operations and Environmental Assessment will be available for public review and comment in the office of the Superintendent, Big Thicket National Preserve, 3785 Milam Street, Beaumont, Texas. Copies can be requested from the Superintendent, Big Thicket National Preserve, 3785 Milam Street, Beaumont, Texas 77701 or by calling (409) 839-2689.

FOR FURTHER INFORMATION CONTACT: Doug Hutter, Acting Chief, Division of Resources Management, Big Thicket National Preserve, 3785 Milam Street, Beaumont, Texas 77701, (409) 839-2689, Extension 232.

SUPPLEMENTARY INFORMATION: If you wish to comment, you may mail comments to the Superintendent, Big Thicket National Preserve, at the above street address. You may also hand deliver comments to the superintendent at the same address. Our practice is to make comments, including names and home addresses of respondents, available for public review during regular business hours. Individual respondents may request that we withhold their home address from the record, which we will honor to the extent allowable by law. There also may be circumstances in which we would withhold from the record a respondent's identity, as allowable by law. If you wish us to withhold your name and/or address, you must state this prominently at the beginning of your comment. We will make all submissions from organizations or businesses, and from individuals identifying themselves as representatives or officials of organizations or businesses, available for public inspection in their entirety.

Dated: September 23, 2003.
Michael D. Snyder,
Deputy Regional Director, Intermountain Region, National Park Service.

[FR Doc. 03-28842 Filed 11-18-03; 8:45 am]

BILLING CODE 4310-70-M